NATIONAL SCIENCE FOUNDATION

Notice of Permit Applications Received Under the Antarctic Conservation Act of 1978 (Pub. L. 95-541)

AGENCY: National Science Foundation.

ACTION: Notice of Permit Modification Received under the Antarctic Conservation Act of 1978, Pub. L. 95-541

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to these permit applications by April 12, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas requiring special protection. The regulations establish such a permit system to designate Specially Protected Areas and Sites of Special Scientific Interest.

Description of Permit Modification Requested

The Foundation issued a permit (1999-009) to Dr. William R. Fraser on September 25, 1998. The issued permit allows the applicant to capture and release a variety of seabirds to access how annual environmental variability affects their diets, breeding success, growth rates, population trends, foraging success and seasonal dispersal. The applicant proposed to census populations; capture, mark, and weigh a select number of adults, chicks and eggs; obtain diet samples, place radio/satellite transmitters on some individuals to develop profiles on foraging effort and dispersal; and use GIS/GPS technologies to map and characterize breeding habitat features.

The applicant proposes to modify his permit by expanding his study to include a few additional seabird species. The applicant estimates studying up to 50 Emperor penguins, 100 Gentoo penguins, 100 Chinstrap Pengins, and 100 each of Snow, Cape and Antarctic Petrels. All seabirds will be released unharmed.

Location

Palmer Station and Antarctic Peninsula vicinity.

Nadene G. Kennedy,
Permit Officer, Office of Polar Programs.

[FR Doc. 01-6192 Filed 3-12-01; 8:45 am]

BILLING CODE 7555-01-M